DEPARTMENT OF THE TREASURY

Internal Revenue Service

26 CFR Part 1

[TD 9362]

RIN 1545-BG23

Foreign Tax Credit: Notification of Foreign Tax Redeterminations; Correction

AGENCY: Internal Revenue Service (IRS), Treasury.

ACTION: Correction to temporary regulations.

SUMMARY: This document contains a correction to temporary regulations (TD 9362) that were published in the Federal Register on Wednesday, November 7, 2007 (72 FR 62771) relating to a United States taxpayer's obligation under section 905(c) of the Internal Revenue Code to notify the IRS of a foreign tax redetermination, which is a change in the taxpayer's foreign tax liability that may affect the taxpayer's foreign tax credit and also relating to the civil penalty under section 6689 for failure to notify the IRS of a foreign tax redetermination as required under section 905(c).

DATES: The correction is effective December 19, 2007.

FOR FURTHER INFORMATION CONTACT: Teresa Burridge Hughes, (202) 622-3850 (not a toll-free number).

SUPPLEMENTARY INFORMATION:

Background

The temporary regulations (TD 9362) that are the subject of the correction are under section 905(c) of the Internal Revenue Code.

Need for Correction

As published, temporary regulations (TD 9362) contain an error that may prove to be misleading and is in need of clarification.

Correction of Publication

Accordingly, the publication of the temporary regulations (TD 9362), which were the subject of FR Doc. E7-21766, is corrected as follows:

On page 62779, column 2, under the paragraph heading “Effective/Applicability Date”, last line of the first paragraph of the column, the language “are first effective.” is corrected to read “are first applicable.”.

LaNita Van Dyke,
Chief, Publications and Regulations Branch, Legal Processing Division, Associate Chief Counsel (Procedure and Administration).

[FR Doc. E7-24669 Filed 12-18-07; 8:45 am]

BILLING CODE 4830-01-P